DEPARTMENT OF ENERGY

Federal Energy Regulatory Commission

[Project No. 3451-047]

Beaver Falls Municipal Authority; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 3451-047.

c. Date filed: August 1, 2022.

d. Applicant: Beaver Falls Municipal Authority (Beaver Falls).

e. Name of Project: Townsend Water Power Project.

f. Location: On the Beaver River, in the Borough of New Brighton in Beaver County, Pennsylvania. The project does not occupy any federal land.

g. Filed Pursuant to: Federal Power Act 16 U.S.C. 791(a)-825(r).

h. Applicant Contact: James Riggio, General Manager, Beaver Falls Municipal Authority, PO Box 400, Beaver Falls, PA 15010; (724) 846-2400.

i. FERC Contact: Emily Carter at (202) 502-6512, or Emily.Carter@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 30, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Townsend Water Power Project (P-3451-047).

m. The application is not ready for environmental analysis at this time.

n. The Townsend Water Power Project consists of the following existing facilities: (1) a 450-foot-long and 13-foot-high dam, constructed of rock-filled timber cribs encased in concrete, with a crest elevation 699.3 feet National Geodetic Vertical Datum of 1929 (NGVD29); (2) an approximately 25-acre reservoir with a gross storage capacity of 200 acre-feet at normal water surface elevation of 698.62 feet NGVD29; (3) a short entrance channel excavated in rock near the left dam abutment that directs water to an intake structure with trashracks and fish deflector; (4) a 52-foot-long by 46-foot-wide concrete powerhouse; (5) two double-regulated open-pit type turbine-generator units each rated at 2,500 kilowatts (kW) for a total installed capacity of 5,000 kW; (6) an approximately 230-foot-long tailrace, excavated in rock at a normal tailwater elevation of 681.17 feet NGVD29; (7) a 500-foot-long, 23-kilovolt (kV) transmission line owned by Duquesne Light Company; (8) 4.16-kV generator leads, a 60-foot-long section of 5-kV underground cable leading to a 4.16/23-kV transformer in an outdoor substation; and (9) appurtenant facilities. The average annual generation was 19,524 megawatt-hours for the period from 2015 to 2019.

The Townsend Water Power Project operates in a run-of-river mode with a continuous minimum flow of 304 cubic feet per second (cfs), or inflow, whichever is less. The flow for operating a single unit is 600 cfs and minimum river flow for the project operation is 904 cfs. There is minimal to no available usable storage behind the dam and if river flow is less than 904 cfs, all water is spilled over the dam. The project is typically operated automatically, but manual operation may occur during dynamic high-water events. The project is returned to automatic operation when flow decreases.

o. A copy of the application can be viewed on the Commission's website at http://www.ferc.gov, using the “eLibrary” link. Enter the docket number, excluding the last three digits in the docket number field, to access the document (P-3451). For assistance, contact FERC at FERCOnlineSupport@ferc.gov, or call toll-free, (866) 208-3676 or (202) 502-8659 (TTY).

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Milestone | Target date
Issue Deficiency Letter (if necessary) | September 2022.
Request Additional Information | September 2022.
Issue Acceptance Letter | December 2022.
Issue Scoping Document 1 for comments | January 2023.
Request Additional Information (if necessary) | February 2023.
Issue Scoping Document 2 (if necessary) | March 2023.
Issue Notice of Ready for Environmental Analysis | April 2023.

Final amendments to the application must be filed with the Commission no later than 30 days from the issuance date of the notice of ready for environmental analysis.

Dated: August 5, 2022.
Kimberly D. Bose,
Secretary.

[FR Doc. 2022-17256 Filed 8-10-22; 8:45 am]

BILLING CODE 6717-01-P